DEPARTMENT OF TRANSPORTATION

Surface Transportation Board

[Docket No. AB 156 (Sub-No. 27X)]

Delaware and Hudson Railway Company, Inc.—Discontinuance of Trackage Rights Exemption—in Broome County, N.Y., Essex, Union, Somerset, Hunterdon, and Warren Counties, N.J., Luzerne, Perry, York, Lancaster, Northampton, Lehigh, Carbon, Berks, Montgomery, Northumberland, Dauphin, Lebanon, and Philadelphia Counties, Pa., Harford, Baltimore, Anne Arundel, and Prince George's Counties, Md., the District of Columbia, and Arlington County, Va

Delaware and Hudson Railway Company, Inc. (D&H), a wholly-owned indirect subsidiary of Canadian Pacific Railway Company, has filed a verified notice of exemption under 49 CFR pt. 1152 subpart F—Exempt Abandonments and Discontinuances of Service to discontinue its overhead and local trackage rights over approximately 670 miles of rail line (the Lines) owned and/or operated by Norfolk Southern Railway Company, Reading Blue Mountain and Northern Railroad Company, CSX Transportation, Inc., Consolidated Rail Corporation, Wilkes-Barre Connecting Railroad Company, Pocono Northeast Railway, Inc., and National Railroad Passenger Corporation. The Lines are located: (1) In Binghamton, N.Y., (2) in Wilkes-Barre, Pa., (3) between Hudson (Plains), Pa., and Buttonwood, Pa., (4) between Sunbury, Pa., and Harrisburg, Pa., (5) between Harrisburg and Potomac Yard, Va., via Perryville, Md., (6) between Harrisburg and Philadelphia, Pa., via Reading, Pa., (7) between Reading and Allentown, Pa., (8) between Dupont, Pa., and Allentown, and (9) between Allentown and Oak Island, N.J.

The Lines traverse United States Postal Service Zip Codes as follows: (1) Pennsylvania—17110, 17020, 17053, 17025, 17011, 17043, 17070, 17319, 17370, 17345, 17347, 17406, 17547, 17512, 17582, 17516, 17565, 17532, 17518, 17563, 17101, 17102, 17120, 17104, 17113, 17057, 17502, 17801, 17823, 17830, 17017, 17061, 17032, 17018, 17112, 18240, 18229, 18235, 18071, 18058, 18080, 18088, 18059, 18067, 18052, 18032, 18109, 18018, 18015, 18017, 18020, 18045, 18042, 18103, 18049, 18062, 18011, 19539, 19562, 19530, 19522, 19510, 19605, 19604, 19601, 19602, 19606, 19508, 19518, 19464, 19468, 19460, 19406, 19401, 19428, 19035, 19072, 19004, 19131, 19121, 19129, 19132, 19133, 19122, 19123, 19107, 19147, 19148, 19145, 19106, 19112, 17103, 17111, 17036, 17033, 17078, 17042, 17046, 17067, 17087, 17073, 19567, 19551, 19565, 19608, 19609, 19610, 19611, 18641, 18640, 18702, 18706, 18707, 18661, 18255, 18701, 18704, and 18705; (2) Maryland—21918, 21904, 21903, 21078, 21001, 21040, 21010, 21220, 21221, 21237, 21224, 21205, 21203, 21212, 21201, 21217, 21223, 21229, 21227, 21090, 21076, 21240, 21077, 21144, 21113, 20775, 20715, 20720, 20769, 20706, 20784, 20785, and 20743; (3) District of Columbia—20003, 20019, and 20024; (4) Virginia—22202; (5) New Jersey—07102, 07105, 07114, 07112, 07205, 07083, 07204, 07203, 07016, 07027, 07090, 07076, 07023, 07062, 07060, 07063, 08812, 08846, 08805, 08807, 08835, 08844, 08853, 08822, 08887, 08801, 08867, 08827, 08802, 08804, and 08865; and (6) New York—13748, 13790, 13901, 13903, and 13905.

D&H has certified that (1) no local traffic has moved over the Lines for at least two years; (2) any overhead traffic can be rerouted over other lines; (3) no formal complaint filed by a user of rail service on the Lines (or by a state or local government entity acting on behalf of such user) regarding cessation of service on the Lines either is pending with the Board or with any U.S. District Court or has been decided in favor of complainant within the two-year period; and (4) the requirements at 49 CFR 1105.12 (newspaper publication), and 49 CFR 1152.50(d)(1) (notice to governmental agencies) have been met.

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on May 8, 2015,¹ unless stayed pending reconsideration. Petitions to stay that do not involve environmental issues and formal expressions of intent to file an OFA to subsidize continued rail service under 49 CFR 1152.27(c)(2) ² must be filed by April 20, 2015. Petitions to reopen must be filed by April 28, 2015, with the Surface Transportation Board, 395 E Street SW., Washington, DC 20423-0001.

¹ The Board expects to establish a later effective date for this exemption and will do so in a separate decision.

² Each OFA must be accompanied by the filing fee, which currently is set at $1,600. See 49 CFR 1002.2(f)(25).

A copy of any petition filed with the Board should be sent to D&H's representative: W. Karl Hansen, Stinson Leonard Street LLP, 150 South Fifth Street, Suite 2300, Minneapolis, MN 55402.

If the verified notice contains false or misleading information, the exemption is void ab initio.

Board decisions and notices are available on our Web site at “WWW.STB.DOT.GOV.”

Decided: April 3, 2015.
By the Board, Joseph H. Dettmar, Acting Director, Office of Proceedings.
Jeffrey Herzig,
Clearance Clerk.

[FR Doc. 2015-08081 Filed 4-7-15; 8:45 am]

BILLING CODE 4915-01-P